DEPARTMENT OF AGRICULTURE

Forest Service

Boundary Establishment for Bautista Creek, Fuller Mill Creek, North Fork of the San Jacinto, and Palm Canyon Creek Wild and Scenic Rivers on the San Bernardino National Forest, Riverside County, California

AGENCY: Forest Service, Agriculture (USDA).

ACTION: Notice of availability.

SUMMARY: The USDA Forest Service, Washington Office, in accordance with section 3(b) and section 3(d)(1) of the Wild and Scenic Rivers Act, is transmitting the final boundary of Bautista Creek, Fuller Mill Creek, North Fork of the San Jacinto, and Palm Canyon Creek Wild and Scenic Rivers to Congress.

ADDRESSES: The Bautista Creek, Fuller Mill Creek, North Fork of the San Jacinto, and Palm Canyon Creek Wild and Scenic Rivers boundary description and map are available for review at https://www.fs.usda.gov/project/sbnf/?project=34053. To view the documents in person, arrangements should be made in advance by contacting the office listed under FOR FURTHER INFORMATION CONTACT.

FOR FURTHER INFORMATION CONTACT: Information may be obtained by contacting, Carlo “Gino” San Paolo, Forest Service Regional Land Surveyor, 1323 Club Drive, Vallejo, CA 94592, by telephone at 707-562-8963, or via email at carlo.sanpaolo@usda.gov. Alternatively, contact Joseph Martin via email at joseph.martin@usda.gov. Individuals who use telecommunications devices for the hearing impaired may call 711 to reach the Telecommunications Relay Service, 24 hours a day, every day of the year, including holidays.

Persons with disabilities who require alternative means of communication for program information (Braille, large print, audiotape, American Sign Language, etc.) should contact the responsible Agency or USDA's TARGET Center at 202-720-2600 (voice and TTY) or contact USDA through the Federal Relay Service at 844-433-2774. Additionally, program information may be made available in languages other than English.

SUPPLEMENTARY INFORMATION: The Omnibus Public Land Management Act of 2009 (Pub. L. 111-11) of March 30, 2009, designated Bautista Creek, Fuller Mill Creek, North Fork of the San Jacinto, and Palm Canyon Creek Wild and Scenic Rivers, California, as National Wild and Scenic Rivers, to be administered by the Secretary of Agriculture. As specified by law, the boundary will not be effective until ninety days after Congress receives the transmittal.

Lisa Northrop,
Associate Deputy Chief State, Private, and Tribal Forestry, National Forest System.

[FR Doc. 2025-16538 Filed 8-27-25; 8:45 am]

BILLING CODE 3411-15-P